NUCLEAR REGULATORY COMMISSION

Agency Information Collection Activities: Submission for the Office of Management and Budget (OMB) Review; Comment Request

AGENCY: U. S. Nuclear Regulatory Commission (NRC)

ACTION: Notice of the OMB review of information collection and solicitation of public comment.

SUMMARY: The NRC has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number.

1. Type of submission, new, revision, or extension:

Revision.

2. The title of the information collection:

NRC Form 4, “Cumulative Occupational Dose History”

NRC Form 5, “Occupational Exposure Record for a Monitoring Period”.

3. The form number if applicable:

NRC Form 4: 3150-0005.

NRC Form 5: 3150-0006.

4. How often the collection is required:

NRC Form 4: Occasionally.

NRC Form 5: Annually.

5. Who will be required or asked to report:

Licensees who are required to comply with 10 CFR part 20.

6. An estimate of the number of responses:

NRC Form 4-23,077.

NRC Form 5-370,212.

7. The estimated number of annual respondents:

NRC Form 4: 286 (104 reactor sites and 182 materials licensees).

NRC Form 5: 5,400 (104 reactor and 5,296 materials licensees) are required to keep records; 286 (104 reactor sites and 182 material licensees) are required to submit reports in accordance with 10 CFR 20.2206(a).

8. An estimate of the total number of hours needed annually to complete the requirement or request:

NRC Form 4: 11,531 hours or an average of 0.5 hours per response.

NRC Form 5: 66.682 (55,242 hours for recordkeeping hours or an average of 0.33 hours per record and 11,440 hours for reporting hours or an average of 40 hours per licensee).

9. An indication of whether Section 3507(d), Pub. L. 104-13 applies:

Not applicable.

10. Abstract: NRC Form 4 is used to record the summary of an individual's cumulative occupational radiation dose for the current year to ensure that dose does not exceed regulatory limits.

NRC Form 5 is used to record and report the results of individual monitoring for an occupational dose from radiation during a one-year period to ensure regulatory compliance with annual dose limits.

A copy of the final supporting statement may be viewed free of charge at the NRC Public Document Room, One White Flint North, 11555 Rockville Pike, Room O-1 F23, Rockville, MD 20852. OMB clearance requests are available at the NRC worldwide web site: http://www.nrc.gov/NRC/PUBLIC/OMB/index.html. The document will be available on the NRC home page site for 60 days after the signature date of this notice.

Comments and questions should be directed to the OMB reviewer listed below by September 4, 2001. Comments received after this date will be considered if it is practical to do so, but assurance of consideration cannot be given to comments received after this date.

Bryon Allen, Office of Information and Regulatory Affairs, (3150-0005 and 3150-0006), NEOB-10202, Office of Management and Budget, Washington, DC 20503.

Comments can also be submitted by telephone at (202) 395-3087.

The NRC Clearance Officer is Brenda Jo. Shelton, 301-415-7233.

Dated at Rockville, Maryland, this 25th day of July 2001.
For the Nuclear Regulatory Commission.
Brenda Jo. Shelton,
NRC Clearance Officer, Office of the Chief Information Officer.

[FR Doc. 01-19301 Filed 8-1-01; 8:45 am]

BILLING CODE 7590-01-P